DEPARTMENT OF HOUSING AND URBAN DEVELOPMENT

[Docket No. FR-5608-N-03]

Notice of Proposed Information Collection: Collection of Information From HUD Lead Hazard Control Grantees Regarding Their Use of Healthy Homes Supplemental Funding

AGENCY: HUD Office of Healthy Homes and Lead Hazard Control.

ACTION: Notice.

SUMMARY: The proposed information collection requirement concerning a survey of selected lead hazard control grantees funded by HUD that have also received Healthy Homes Supplemental funds will be submitted to the Office of Management and Budget (OMB) for review, as required by the Paperwork Reduction Act. The Department is soliciting public comments on the subject proposal.

DATES: Comments due date: November 16, 2012.

ADDRESSES: Interested persons are invited to submit comments regarding this proposal. Comments should refer to the proposal by name and/or OMB Control Number and should be sent to: Ashley L. Mack, Reports Liaison Officer, Office of Healthy Homes and Lead Hazard Control, Department of Housing and Urban Development, 451 7th Street SW., Room 8236, Washington, DC 20410; ashley.l.mack@hud.gov.

FOR FURTHER INFORMATION CONTACT: Peter J. Ashley, Department of Housing and Urban Development, 451 7th Street SW., Room 8236, Washington, DC 20410, telephone number (202) 402-7595 (this is not a toll-free number) for copies of the proposed survey and other available documents. Hearing- or speech-challenged individuals may access this number through TTY by calling the toll-free Federal Relay Service at 800-877-8339.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses. This Notice also lists the following information:

Title of Proposal: Collection of Information from HUD Lead Hazard Control Grantees Regarding Their Use of Healthy Homes Supplemental Funding.

OMB Control Number: To be assigned.

Need for the Information and Proposed Use: HUD is interested in collecting information on the use of supplemental Healthy Homes Program funds by HUD Lead Hazard Control (LHC) Program grantees. LHC applicants have been eligible to receive supplemental funding to support modest “healthy homes” interventions in target housing starting in FY 2009. The Healthy Homes Program funds can be used by the grantees to mitigate priority health and safety hazards that cannot be addressed using Lead Hazard Control Program grant funds. Individual grantees were eligible to receive the following amounts of supplemental funds in the four fiscal years that the supplemental funds have been offered: $75,000 per grantee in FY 2009; $100,000 in FY 2010; $150,000 in FY 2011, and $200,000 in FY 2012. In FY 2011 and FY 2012, grantees were required to use the Healthy Homes Rating System (HHRS) to identify the residential hazards to be addressed. Approximately 80 grantees have received the healthy homes supplement during the period in which the funds have been offered.

Grantees will be asked the following:

a. How the LHC grantees have been using the healthy homes supplemental funds, and their experience using the HHRS assessment tool.

b. To identify effective healthy homes practices that can be summarized and made available to other programs through the development of case studies, etc.

Agency Form Numbers: None.

Members of Affected Public: HUD Office of Healthy Homes and Lead Hazard Control's Lead-Based Paint Hazard Control grantees, and the grantees' contractors, where applicable.

Total Burden Estimate:

Requirement | Number of respondents | Hours per respondent | Total hours | Cost per hour | Labor cost | Startup cost | O&M Cost | Total cost
Complete questionnaire | 80 | 12 | 960 | $32.75 | $31,440 | $0 | $0 | $31,440
Total | 80 |  | 960 |  | 31,440 | 0 | 0 | 31,440

Status of the Proposed Information Collection: New request.

Authority: The Paperwork Reduction Act of 1995, 44 U.S.C. Chapter 35, as amended.

Dated: September 12, 2012.
Jon L. Gant,
Director, HUD Office of Healthy Homes and Lead Hazard Control.

[FR Doc. 2012-22856 Filed 9-14-12; 8:45 am]

BILLING CODE 4210-67-P